DEPARTMENT OF AGRICULTURE

Submission for OMB Review; Comment Request

June 19, 2012.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Requirements of Recognizing the Animal Health Status of Foreign Regions.

OMB Control Number: 0579-0219.

Summary of Collection: The Animal Health Protection Act (AHPA) of 2002 is the primary Federal law governing the protection of animal health. The AHPA is contained in Title X, Subtitle E, Sections 10401-18, of Public Law 107-171, May 13, 2002, the Farm Security and Rural Investment Act of 2002. The Animal and Plant Health Inspection Service (APHIS) is responsible for, among other things, protecting the health of our Nation's livestock and poultry populations by preventing the introduction and spread of serious diseases and pests of livestock and poultry and for eradicating such diseases and pests from the United States when feasible. The regulations in 9 CFR part 92, “Importation of Animals and Animal Products: Procedures for Requesting Recognition of Regions,” set out the process by which a foreign government may request recognition of the animal health status of a region or approval to export animals or animal products to the United States based on the risk associated with animals or animal products from that region. Each request must include information about the region.

Need and Use of the Information: APHIS will collect information that might include: (1) The authority, organization, and infrastructure of the Veterinary Service Organization in the region; (2) disease status; (3) the status of adjacent regions with respect to the agent; (4) the extent of an active disease control program, if any, if the agent is known to exist in the region; (5) the vaccination status of the region, when was the last vaccination, what is the extent of vaccination if it is currently used, and what vaccine is being used; (6) the degree to which the region is separated from adjacent regions of higher risk through physical or other barriers; (7) the extent to which movement of animal and animal products is controlled from regions of higher risk, and the level of biosecurity regarding such movements; (8) livestock demographics and marketing practices in the region; (9) the type and extent of surveillance in the region, e.g., is it passive and/or active, what is the quantity and quality of sampling and testing; (10) diagnostic laboratory capabilities, and (11) policies and infrastructure for animal disease control in the region, i.e., emergency response capacity. Without the information the U.S. livestock and poultry industries could suffer serious economic losses as the result of such an incursion, as the value of their products would be diminished both domestically and internationally.

Description of Respondents: Federal Government.

Number of Respondents: 3.

Frequency of Responses: Reporting: On occasion.

Total Burden Hours: 120.

Ruth Brown,
Departmental Information Collection Clearance Officer.

[FR Doc. 2012-15454 Filed 6-22-12; 8:45 am]

BILLING CODE 3410-34-P